DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Adams and Jefferson. (FEMA Docket No.: B-1900) | City of Westminster (18-08-0906P). | The Honorable Herb Atchison, Mayor, City of Westminster, 4800 West 92nd Avenue, Westminster, CO 80031. | City Hall, 4800 West 92nd Avenue, Westminster, CO 80031. | Mar. 15, 2019 | 080008
Adams (FEMA Docket No.: B-1900) | Unincorporated areas of Adams County (18-08-0906P). | The Honorable Mary Hodge, Chair, Adams County Board of Commissioners, 4430 South Adams County Parkway, 5th Floor, Suite C5000A, Brighton, CO 80601. | Adams County Community and Economic Development Department, 4430 South Adams County Parkway, Brighton, CO 80601. | Mar. 15, 2019 | 080001
Arapahoe (FEMA Docket No.: B-1900) | City of Greenwood Village (18-08-0275P). | The Honorable Ron Rakowsky, Mayor, City of Greenwood Village, 6060 South Quebec Street, Greenwood Village, CO 80111. | Public Works Department, 10001 East Costilla Avenue, Greenwood Village, CO 80112. | Mar. 15, 2019 | 080195
Boulder (FEMA Docket No.: B-1871) | City of Boulder (18-08-1141P). | The Honorable Suzanne Jones, Mayor, City of Boulder, 1777 Broadway Street, Boulder, CO 80306. | Central Records Department, 1777 Broadway Street, Boulder, CO 80306. | Mar. 5, 2019 | 080024
Broomfield (FEMA Docket No.: B-1900) | City and County of Broomfield (18-08-0246P). | The Honorable Randy Ahrens, Mayor, City and County of Broomfield, 1 DesCombes Drive, Broomfield, CO 80020. | City and County of Broomfield Engineering Department, 1 DesCombes Drive, Broomfield, CO 80020. | Mar. 15, 2019 | 085073
Eagle (FEMA Docket No.: B-1900) | Unincorporated areas of Eagle County (18-08-0593P). | Mr. Jeff Shroll, Eagle County Manager, P.O. Box 850, Eagle, CO 81631. | Eagle County Engineering Department, 500 Broadway Street, Eagle, CO 81631. | Mar. 15, 2019 | 080051
Florida:
Broward (FEMA Docket No.: B-1900) | City of Deerfield Beach (18-04-4897P). | The Honorable Bill Ganz, Mayor, City of Deerfield Beach, 150 Northeast 2nd Avenue, Deerfield Beach, FL 33441. | Environmental Services Department, 200 Goolsby Boulevard, Deerfield Beach, FL 33442. | Mar. 19, 2019 | 125101
Broward (FEMA Docket No.: B-1871) | City of Parkland (18-04-4986P). | The Honorable Christine Hunschofsky, Mayor, City of Parkland, 6600 University Drive, Parkland, FL 33067. | City Hall, 6600 University Drive, Parkland, FL 33067. | Mar. 5, 2019 | 120051
Collier (FEMA Docket No.: B-1900) | City of Marco Island (18-04-5452P). | The Honorable Jared Grifoni, Chairman, City of Marco Island Council, 50 Bald Eagle Drive, Marco Island, FL 34145. | Building Department, 50 Bald Eagle Drive, Marco Island, FL 34145. | Mar. 15, 2019 | 120426
Lee (FEMA Docket No.: B-1900) | City of Sanibel (18-04-6446P). | The Honorable Kevin Ruane, Mayor, City of Sanibel, 800 Dunlop Road, Sanibel, FL 33957. | Planning Department, 800 Dunlop Road, Sanibel, FL 33957. | Mar. 21, 2019 | 120402
Monroe (FEMA Docket No.: B-1871) | Unincorporated areas of Monroe County (18-04-6309P). | The Honorable David Rice, Mayor, Monroe County Board of Commissioners, 9400 Overseas Highway, Suite 210, Marathon, FL 33050. | Monroe County Building Department, 9400 Overseas Highway, Suite 300, Marathon, FL 33050. | Mar. 6, 2019 | 125129
Monroe (FEMA Docket No.: B-1900) | Unincorporated areas of Monroe County (18-04-6657P). | The Honorable David Rice, Mayor, Monroe County Board of Commissioners, 9400 Overseas Highway, Suite 210, Marathon, FL 33050. | Monroe County Building Department, 2798 Overseas Highway, Suite 300, Marathon, FL 33050. | Mar. 18, 2019 | 125129
Monroe (FEMA Docket No.: B-1900) | Unincorporated areas of Monroe County (18-04-6765P). | The Honorable David Rice, Mayor, Monroe County Board of Commissioners, 9400 Overseas Highway, Suite 210, Marathon, FL 33050. | Monroe County Building Department, 2798 Overseas Highway, Suite 300, Marathon, FL 33050. | Mar. 19, 2019 | 125129
Pinellas (FEMA Docket No.: B-1900) | City of Treasure Island (18-04-5348P). | The Honorable Lawrence Lunn, Mayor, City of Treasure Island, 120 108th Avenue, Treasure Island, FL 33707. | Community Improvement Department, 120 108th Avenue, Treasure Island, FL 33707. | Mar. 22, 2019 | 125153
Sarasota (FEMA Docket No.: B-1871) | Unincorporated areas of Sarasota County (18-04-6698P). | The Honorable Nancy Detert, Chair, Sarasota County Board of Commissioners, 1660 Ringling Boulevard, Sarasota, FL 34236. | Sarasota County Planning and Development Services Department, 1001 Sarasota Center Boulevard, Sarasota, FL 34236. | Mar. 8, 2019 | 125144
Massachusetts: Plymouth (FEMA Docket No.: B-1900) | Town of East Bridgewater (18-01-1360P). | The Honorable David J. Sheedy, Chairman, Town of East Bridgewater Board of Selectmen, 175 Central Street, East Bridgewater, MA 02333. | Department of Emergency Management, 268 Bedford Street, East Bridgewater, MA 02333. | Mar. 21, 2019 | 250264
Montana:
Gallatin (FEMA Docket No.: B-1900) | City of Bozeman (18-08-1068P). | Ms. Andrea Surratt, Manager, City of Bozeman, P.O. Box 1230, Bozeman, MT 59771. | Engineering Department, 20 East Olive Street, Bozeman, MT 59715. | Mar. 18, 2019 | 300028
Gallatin (FEMA Docket No.: B-1900) | City of Bozeman (18-08-1069P). | Ms. Andrea Surratt, Manager, City of Bozeman, P.O. Box 1230, Bozeman, MT 59771. | Engineering Department, 20 East Olive Street, Bozeman, MT 59715. | Mar. 14, 2019 | 300028
Gallatin (FEMA Docket No.: B-1900) | City of Bozeman (18-08-1070P). | Ms. Andrea Surratt, Manager, City of Bozeman, P.O. Box 1230, Bozeman, MT 59771. | Engineering Department, 20 East Olive Street, Bozeman, MT 59715. | Mar. 18, 2019 | 300028
Gallatin (FEMA Docket No.: B-1900) | Unincorporated areas of Gallatin County (18-08-1068P). | The Honorable R. Stephen White, Chairman, Gallatin County Board of Commissioners, 311 West Main Street, Room 306, Bozeman, MT 59715. | Gallatin County Planning Department, 311 West Main Street, Room 108, Bozeman, MT 59715. | Mar. 18, 2019 | 300027
North Carolina:
Henderson (FEMA Docket No.: B-1900) | City of Hendersonville (18-04-7062P). | The Honorable Barbara Volk, Mayor, City of Hendersonville, 145 5th Avenue East, Hendersonville, NC 28792. | Development Assistance Department, 100 North King Street, Hendersonville, NC 28792. | Mar. 25, 2019 | 370128
Union (FEMA Docket No.: B-1900) | Unincorporated areas of Union County (17-04-7709P). | The Honorable Jerry Simpson, Chairman, Union County Board of Commissioners, 500 North Main Street, Room 921, Monroe, NC 28112. | Union County Growth Management, Planning Division, 500 North Main Street, Monroe, NC 28112. | Mar. 21, 2019 | 370234
North Dakota: Stark (FEMA Docket No.: B-1900) | City of Dickinson (18-08-0453P). | The Honorable Scott Decker, Mayor, City of Dickinson, 99 2nd Street East, Dickinson, ND 58601. | City Hall, 99 2nd Street East, Dickinson, ND 58601. | Mar. 13, 2019 | 380117
Pennsylvania:
Allegheny (FEMA Docket No.: B-1900) | City of Pittsburgh (18-03-0982P). | The Honorable William Peduto, Mayor, City of Pittsburgh, 414 Grant Street, 5th Floor, Pittsburgh, PA 15219. | Planning Department, 200 Ross Street, Suite 309, Pittsburgh, PA 15219. | Mar. 14, 2019 | 420063
Chester (FEMA Docket No.: B-1900) | Township of Sadsbury (18-03-1405P). | The Honorable Dave Reynolds, Chairman, Township of Sadsbury Board of Supervisors, 2920 Lincoln Highway, Sadsburyville, PA 19369. | Township Hall, 2920 Lincoln Highway, Sadsburyville, PA 19369. | Mar. 22, 2019 | 421488
Dauphin (FEMA Docket No.: B-1900) | Township of Lower Paxton (18-03-1580P). | The Honorable Lowman S. Henry, Chairman, Township of Lower Paxton Board of Supervisors, 425 Prince Street, Harrisburg, PA 17109. | Community Development Department, 425 Prince Street, Harrisburg, PA 17109. | Mar. 13, 2019 | 420384
Texas:
Bexar (FEMA Docket No.: B-1871) | City of San Antonio (18-06-1813P). | The Honorable Ron Nirenberg, Mayor, City of San Antonio, P.O. Box 839966, San Antonio, TX 78283. | Transportation and Capital Improvements Department, Stormwater Division, 1901 South Alamo Street, 2nd Floor, San Antonio, TX 78204. | Mar. 4, 2019 | 480045
Hays (FEMA Docket No.: B-1900) | City of Kyle (18-06-2155P). | The Honorable Travis Mitchell, Mayor, City of Kyle, 100 West Center Street, Kyle, TX 78640. | Building Department, 100 West Center Street, Kyle, TX 78640. | Mar. 7, 2019 | 481108
Liberty (FEMA Docket No.: B-1900) | City of Dayton (18-06-1877P). | The Honorable Jeff Lambright, Mayor, City of Dayton, 117 Cook Street, Dayton, TX 77535. | City Hall, 117 Cook Street, Dayton, TX 77535. | Mar. 22, 2019 | 480440
Liberty (FEMA Docket No.: B-1900) | Unincorporated areas of Liberty County (18-06-1877P). | The Honorable Jay Knight, Liberty County Judge, 1923 Sam Houston Street, Room 201, Liberty, TX 77575. | Liberty County Courthouse, 1923 Sam Houston Street, Liberty, TX 77575. | Mar. 22, 2019 | 480438
Midland (FEMA Docket No.: B-1900) | City of Midland (18-06-1530P). | Mr. Courtney Sharp, Manager, City of Midland, 300 North Loraine Street, Midland, TX 79701. | City Hall, 300 North Loraine Street, Midland, TX 79701. | Feb. 28, 2019 | 480477
Tarrant (FEMA Docket No.: B-1900) | City of Fort Worth (18-06-2376P). | The Honorable Betsy Price, Mayor, City of Fort Worth, 200 Texas Street, Fort Worth, TX 76102. | City Hall, 200 Texas Street, Fort Worth, TX 76102. | Mar. 22, 2019 | 480596
Tarrant (FEMA Docket No.: B-1900) | City of Fort Worth (18-06-3483P). | The Honorable Betsy Price, Mayor, City of Fort Worth, 200 Texas Street, Fort Worth, TX 76102. | City Hall, 200 Texas Street, Fort Worth, TX 76102. | Mar. 21, 2019 | 480596
Tarrant (FEMA Docket No.: B-1871) | City of Saginaw (18-06-0438P). | The Honorable Todd Flippo, Mayor, City of Saginaw, 333 West McLeroy Boulevard, Saginaw, TX 76179. | Department of Public Works, 205 Brenda Lane, Saginaw, TX 76179. | Mar. 22, 2019 | 480610
Tarrant (FEMA Docket No.: B-1900) | Unincorporated areas of Tarrant County (18-06-2376P). | The Honorable B. Glen Whitley, Tarrant County Judge, 100 East Weatherford Street, Fort Worth, TX 76196. | Tarrant County Administration Building, 100 East Weatherford Street, Fort Worth, TX 76196. | Mar. 22, 2019 | 480582
Virginia: Fauquier (FEMA Docket No.: B-1900) | Unincorporated areas of Fauquier County (18-03-1561P). | The Honorable Christopher T. Butler, Chairman, Fauquier County Board of Supervisors, 10 Hotel Street, Suite 208, Warrenton, VA 20186. | Fauquier County Planning Division, 10 Hotel Street, 3rd Floor, Warrenton, VA 20186. | Mar. 14, 2019 | 510055
Wyoming: Natrona (FEMA Docket No.: B-1900) | City of Casper (18-08-0739P). | The Honorable Ray Pacheco, Mayor, City of Casper, 200 North David Street, Casper, WY 82601. | City Hall, 200 North David Street, Casper, WY 82601. | Mar. 13, 2019 | 560037

[FR Doc. 2019-07264 Filed 4-11-19; 8:45 am]

BILLING CODE 9110-12-P